DEPARTMENT OF ENERGY

Federal Energy Regulatory Commission

Combined Notice of Filings #1

Take notice that the Commission received the following electric corporate filings:

Docket Numbers: EC14-78-001.

Applicants: NRG Energy, Inc., NRG Yield, Inc.

Description: Request for Limited Modification of Quarterly Reporting Requirement of NRG Energy, Inc., et. al.

Filed Date: 9/3/14.

Accession Number: 20140903-5046.

Comments Due: 5 p.m. ET 9/24/14.

Take notice that the Commission received the following electric rate filings:

Docket Numbers: ER10-2718-018; ER10-2719-018.

Applicants: Cogen Technologies Linden Venture, L.P., East Coast Power Linden Holding, L.L.C.

Description: Notice of Non-Material Change in Status of the Linden MBR Sellers.

Filed Date: 9/2/14.

Accession Number: 20140902-5285.

Comments Due: 5 p.m. ET 9/23/14.

Docket Numbers: ER10-2757-004; ER10-2756-004; ER10-3301-004.

Applicants: GWF Energy LLC, Arlington Valley, LLC, Griffith Energy LLC.

Description: Notice of Non-Material Change in Status of Arlington Valley, LLC, et. al.

Filed Date: 9/3/14.

Accession Number: 20140903-5018.

Comments Due: 5 p.m. ET 9/24/14.

Docket Numbers: ER14-2017-001.

Applicants: California Independent System Operator Corporation.

Description: Compliance filing per 35: 2014-09-02_. FullNetworkModelCompliance to be effective 10/1/2014.

Filed Date: 9/2/14.

Accession Number: 20140902-5261.

Comments Due: 5 p.m. ET 9/23/14.

Docket Numbers: ER14-2415-001.

Applicants: Alta Wind VIII, LLC.

Description: Tariff Amendment per 35.17(b): MBR Tariff to be effective 9/4/2014.

Filed Date: 9/3/14.

Accession Number: 20140903-5043.

Comments Due: 5 p.m. ET 9/24/14.

Docket Numbers: ER14-2605-001.

Applicants: Midcontinent Independent System Operator, Inc.

Description: Compliance filing per 35: 2014-09-02_Ameren Edwards Part 2 Compliance Filing to be effective 7/22/2014.

Filed Date: 9/2/14.

Accession Number: 20140902-5186.

Comments Due: 5 p.m. ET 9/23/14.

Docket Numbers: ER14-2755-000.

Applicants: ITC Midwest LLC.

Description: § 205(d) rate filing per 35.13(a)(2)(iii): Filing of a Notice of Cancellation to be effective 7/25/2014.

Filed Date: 9/2/14.

Accession Number: 20140902-5254.

Comments Due: 5 p.m. ET 9/23/14.

Docket Numbers: ER14-2757-000.

Applicants: Westar Energy, Inc.

Description: Tariff Withdrawal per 35.15: Notice of Cancellation of certain designated Rate Schedules to be effective 1/1/2012.

Filed Date: 9/2/14.

Accession Number: 20140902-5264.

Comments Due: 5 p.m. ET 9/23/14.

Docket Numbers: ER14-2758-000.

Applicants: Southern California Edison Company.

Description: § 205(d) rate filing per 35.13(a)(2)(iii): SGIA with Gettysburg Solar, LLC to be effective 9/4/2014.

Filed Date: 9/3/14.

Accession Number: 20140903-5000.

Comments Due: 5 p.m. ET 9/24/14.

Take notice that the Commission received the following public utility holding company filings:

Docket Numbers: PH14-13-000.

Applicants: BBIP AIV, L.P., Upper Peninsula Power Holding Company, Balfour Beatty Infrastructure Partners, L.P.

Description: BBIP AIV, L.P., et. al. submits FERC 65-B Waiver Notification.

Filed Date: 9/2/14.

Accession Number: 20140902-5278.

Comments Due: 5 p.m. ET 9/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2014.
Nathaniel J. Davis, Sr.,
Deputy Secretary.

[FR Doc. 2014-21597 Filed 9-10-14; 8:45 am]

BILLING CODE 6717-01-P